DEPARTMENT OF JUSTICE

Notice of Lodging of Settlement Agreement Under the Clean Air Act, Comprehensive Environmental Response, Compensation, and Liability Act and the Resource Conservation and Recovery Act

Notice is hereby given that on January 30, 2012, a proposed Consent Decree and Settlement Agreement (the “Non-Owned Site Settlement Agreement”) in the bankruptcy matter, Motors Liquidation Corp, et al., f/k/a General Motors Corp., et al., Jointly Administered Case No. 09-50026 (REG), was lodged with the United States Bankruptcy Court for the Southern District of New York. The Parties to the Non-Owned Site Settlement Agreement are the estates of debtors Motors Liquidation Corporation, formerly known as General Motors Corporation, Remediation and Liability Management Company, Inc., and Environmental Corporate Remediation Company, Inc. (collectively, the “Debtors' Estates”), the Motors Liquidation General Unsecured Creditors Trust (collectively with the Debtors' Estates, “Old GM”), and the United States of America. The Settlement Agreement resolves claims and causes of action of the Environmental Protection Agency (“EPA”) against Old GM under the Comprehensive Environmental Response, Compensation, and Liability Act (“CERCLA”), 42 U.S.C. 9601-9675, with respect to the following sites:

1. The Diamond Alkali Superfund Site in New Jersey (the “Diamond Alkali Site”);

2. The Kane & Lombard Street Drum Superfund Site in Maryland (the “Kane & Lombard Site”); and

3. The Hayford Bridge Road Groundwater Superfund Site in Missouri (the “Hayford Bridge Site”).

Under the Non-Owned Site Settlement Agreement, EPA will receive an allowed general unsecured claim of $19,500,000 for the Diamond Alkali Site and an allowed general unsecured claim of $1,402,000 for the Hayford Bridge Site. EPA will also receive work up to the amount of $448,000 in accordance with bond requirements at the Hayford Bridge Site, and work up to the amount of $2,448,334 in accordance with bond requirements at the Kane & Lombard Site.

The Department of Justice will receive, for a period of thirty (30) days from the date of this publication, comments relating to the Non-Owned Site Settlement Agreement. Comments should be addressed to the Assistant Attorney General, Environment and Natural Resources Division, and either emailed to pubcomment-ees.enrd@usdoj.gov or mailed to P.O. Box 7611, U.S. Department of Justice, Washington, DC 20044-7611, and should refer to In re Motors Liquidation Corp., et al., D.J. Ref. 90-11-3-09754.

The Non-Owned Site Settlement Agreement may be examined at the Office of the United States Attorney, 86 Chambers Street, 3rd Floor, New York, New York 10007, and at the U.S. Environmental Protection Agency, Ariel Rios Building, 1200 Pennsylvania Avenue NW., Washington, DC 20460. During the public comment period, the Non-Owned Site Settlement Agreement may also be examined on the following Department of Justice Web site, http://www.usdoj.gov/enrd/Consent_Decrees.html. Copies of the Non-Owned Site Settlement Agreement may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $6.00 (25 cents per page reproduction cost) payable to the U.S. Treasury or, if by email or fax, please forward a check in that amount to the Consent Decree Library at the address given above.

Maureen Katz,
Assistant Chief, Environmental Enforcement Section, Environment and Natural Resources Division.

[FR Doc. 2012-2471 Filed 2-2-12; 8:45 am]

BILLING CODE 4410-15-P